EXPORT-IMPORT BANK

[Public Notice: 2021-6007]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995.

DATES: Comments must be received on or before July 6, 2021 to be assured of consideration.

ADDRESSES: Comments may be submitted electronically on www.Regulations.Gov or by mail to Donna Schneider, Export-Import Bank of the United States, 811 Vermont Ave. NW, Washington, DC 20571.

The information collection tool can be reviewed at: https://www.exim.gov/sites/default/files/pub/pending/eib10-05.pdf.

FOR FURTHER INFORMATION CONTACT: To request additional information, please Donna Schneider. 202-565-3612.

SUPPLEMENTARY INFORMATION: Pursuant to the Export-Import Bank Act of 1945, as amended (12 U.S.C. 635, et seq.), the Export-Import Bank of the United States (EXIM), facilitates the finance of the export of U.S. goods and services by providing insurance or guarantees to U.S. exporters or lenders financing U.S. exports. By neutralizing the effect of export credit insurance or guarantees offered by foreign governments and by absorbing credit risks that the private sector will not accept, EXIM enables U.S. exporters to compete fairly in foreign markets on the basis of price and product. In the event that a borrower defaults on a transaction insured or guaranteed by EXIM, the insured or guaranteed exporter or lender may seek payment from EXIM by the submission of a claim.

Title and Form Number: EIB 10-05 Notice of Claim and Proof of Loss, Medium Term Guarantee.

OMB Number: 3048-0034.

Type of Review: Regular.

Need and Use: This collection of information is necessary, pursuant to 12 U.S.C. 635(a)(1), to determine if such claim complies with the terms and conditions of the relevant guarantee.

Affected Public: This form affects entities involved in the export of U.S. goods and services.

Annual Number of Respondents: 65.

Estimated Time per Respondent: 1½ hours.

Annual Burden Hours: 97.5 hours.

Frequency of Reporting of Use: As needed to request a claim payment.

Government Expenses:

Reviewing time per year: 65 hours.

Average Wages per Hour: $42.50.

Average Cost per Year: $2,762 (time * wages).

Benefits and Overhead: 20%.

Total Government Cost: $3,315.

Bassam Doughman,
IT Specialist.

[FR Doc. 2021-09393 Filed 5-4-21; 8:45 am]

BILLING CODE 6690-01-P